DEPARTMENT OF AGRICULTURE

Forest Service

[Docket No. 0413-MGGL16C]

Idaho Cobalt Project Plan of Operations, Salmon-Challis National Forest, Lemhi County, ID

AGENCY: Forest Service, USDA.

ACTION: Notice of intent to prepare environmental impact statement.

SUMMARY: The USDA, Forest Service, will prepare an Environmental Impact Statement (EIS) for the proposed Idaho Cobalt Project Mine. The Salmon-Challis National Forest Supervisor has determined that preparation of the EIS is required for approval of the Idaho Cobalt Project Plan of Operations (Plan), under FS regulations governing locatable mineral activities on National Forest System Lands (36 CFR 228A) and CEQ regulations implementing the National Environmental Policy Act (40 CFR 1501-1508). The EIS will disclose the environmental effects of the Plan submitted by Formation Capital Corporation U.S. (Formation) for an underground cobalt-copper-gold mine on the Salmon/Cobalt District of the Salmon-Challis National Forest in Lemhi County, Idaho.

The proposed Idaho Cobalt Project is located in an area of the Salmon-Challis National Forest open to mineral location and development. The Forest Service is guided by law and policy, which recognizes Formation's legal right to explore for, and develop mineral resources. At the same time, the Forest Service is charged to ensure that these activities are conducted in an environmentally sound manner, and that once completed, reclamation of the land to a stable and useable condition is accomplished.

The Idaho Cobalt is approximately 45 road miles west from Salmon, Idaho or 22 direct miles. The initial Plan submitted by Formation describes the proposed Idaho Cobalt Project, including production adits and declines, waste rock disposal areas, processing plant, tailings disposal methods, haul roads, and ancillary support facilities on National Forest System Lands. Two separate underground mining operations would be developed and used to extract ore from two deposits, the Ram and Sunshine. Three portals are being proposed along the slopes above Bucktail Creek. A mill would be situated on a plateau located east of the portals. Tailings disposal is proposed to utilize a dry stacking method in an area located east and down slope of the mill. Process waters would be managed and are proposed to be recycled in a closed system, using a water management reservoirs located east and down slope of the tailings disposal site. The proposed nominal ore production rate for mining has been established at 800 tons per day (tpd) or 280,000 tons per year (tpy). The initial start-up rate is proposed to be 600 tpd or 210,000 tpy, with full production in the third year. Current reserves and resources identified by Formation would allow for a 9-year mine life. The project would have a surface disturbance estimated at 191 acres.

The proposed Idaho Cobalt Project is located adjacent to the Blackbird Mine in the historic Blackbird Mining District. Extensive negotiations have occurred and are still ongoing between the existing and previous owners of the Blackbird property and state and federal agencies regarding environmental damage arising from the previous mining operations in the area. The problems created by past mining include degradation of waters draining from mine portals, waste dumps and the tailings impoundment area, as well as spilled tailings along Blackbird Creek. Actions taken by federal and state agencies under Superfund authority have included a Natural Resource Damage Assessment which was settled by Consent Decree, and an Administrative Order on Consent (AOC) for the performance of early removal action and a Remedial Investigation/Feasibility Study (RI/FS) for site cleanup which is still ongoing.

The area that may potentially be affected by the proposed Idaho Cobalt Project mining and mill operation drains to Big Deer Creek, and Panther Creek. Ninety-nine percent of the Panther Creek basin is National Forest; less than one percent is privately owned. Panther Creek flows into the Salmon River, a principal sub-basin of the Snake River. Preliminary environmental issues identified for the immediate project area are described below. Potential Project impacts outside this area include the transportation corridor (Salmon, Idaho to the project site); impact to the socio-economic areas of Lemhi and Custer Counties with the respective county seats of Salmon and Challis, Idaho; and line of sight visual impacts from Gant Ridge trails.

The EIS will tier to the Salmon National Forest Land and Resource Management Plan (Forest Plan) and Final EIS, January 1988, which provide overall guidance of all land management activities on the Salmon National Forest, including mineral exploration and development. This document also tiers to the 1982 Final Environmental Impact Statement for the Blackbird Cobalt-Copper Project.

DATES: Written comments and suggestions must be submitted on or before October 31st, 2001.

ADDRESSES AND FURTHER INFORMATION: Submit written comments and suggestions on the proposed activities to Ray Henderson, Project Coordinator, Salmon-Challis National Forest, 50 Hwy 93 South, Salmon, Idaho, 83467, Phone (208) 756-5100. To be placed on the project mailing list or for additional information, contact the Project Coordinator identified above.

SUPPLEMENTARY INFORMATION: Formation Capital Corporation U.S. (Formation) submitted a Plan of Operations for the proposed Idaho Cobalt Project to the Salmon-Challis National Forest in January 2001. The plan, as proposed and subsequently modified by Formation, is summarized as follows:

The proposed Idaho Cobalt Project would consist of developing an 800-ton per day mine and mill complex. The project would involve mining cobalt-copper-gold reserves with an annual production rate of 280,000 tons of ore at full production. Current reserves and resources would allow for a 9-year mine life. The ore would be mined from two deposits, the Ram and the Sunshine and conveyed to a mill situation on a plateau (The Big Flat). Underground mining methods are proposed, and a flotation mill would be used to process ore from the mine. At full production the mill would produce approximately 32 tons of concentrate and 768 tons of tailings per day. The concentrate would be shipped to an off-site hydrometallurgical facility.

Ram and Sunshine ore would be hauled directly to the mill with 30-ton trucks, where the ore would be stockpiled. The approximate haul distance to the proposed site of the mill from the Ram portal is 2.8 miles and 1.5 miles from the Sunshine portal. Another proposal being considered for the Ram ore is an overhead tram from the 7070 Ram portal to the mill. A conceptual design for the tram includes a 70 cubic foot tramcar traveling on track cables and driven by a haul cable. Two pivoted intermediate towers, approximately 35 feed high, would support the track cables. The tramcar would be loaded from a hopper at the Ram portal, and the car would discharge into a hopper at the mill crusher. A third option for delivering the Ram ore to the mill is to develop a shaft in the second year. The shaft would be located near the mill, connecting to an adit joining the Ram underground workings.

The proposed tailings disposal facility and the water management reservoir are also located on the Big Flat, east of the mill. Disposal of tailings in this area via a dry stacking method was proposed by Formation to take advantage of relatively flat topography, avoidance of wetlands, suitable foundation soils, elimination of the need for a tailings dam, and distance from active drainages and streams. Approximately 60 percent of the tailings would be required underground as backfill. Process waters would be managed and recycled in a closed system, using lined water management reservoirs located east and down slope of the tailings disposal site to reduce water requirements as well as eliminate the need for a water discharge. An additional modification includes the identification of 80 acres for Land Application of excess waters in the latter stages of mine life. The project would disturb 191 acres of National Forest Land.

Power for the project would be secured from an existing power line delivering power to the Blackbird Mine. Emergency power would be supplied with diesel generating equipment located at the main portals and at the mill. This equipment would be sufficient only for essential mill equipment and mine pumps.

It is anticipated that most of the project employees would live in the Salmon area. Employees would be transported to the project site by buses or vans assigned to personnel. The proposed transportation route for the employees is via the Williams Creek Summit, along the Williams Creek road, the Deep Creek road, the Panther Creek road and the Blackbird Creek road. The transportation route for the concentrates is also expected to be via Williams Creek Summit. Equipment, reagents and other freight would also be hauled in along this route.

There would be three main phases in the life of the Idaho Cobalt Project: The construction phase, the production phase, and the reclamation phase. There would also be concurrent reclamation in the construction and production phases as existing disturbed areas or new disturbance is reclaimed post-use. The construction phase would include improving 1 mile of existing roads (4 acres), and the preparation and construction of 4.2 miles of new roads (20.5 acres), the portals and waste rock dumps (15.8 acres) tram corridor (4.8), the mill site (3.5 acres), power line and substation (2.4 acres), tailings disposal site (20 acres), and the water management reservoir (13 acres). Soil stockpile areas, stormwater diversion ditches and borrow areas for 30 acres, with 80 acres proposed for Land Application of reservoir waters towards the end of mine life.

The production phase would bring the mill on line at 400-tons per day increasing to 800-tons per day as the underground Ram mine expands. Each of the project components is integral to the whole operation and therefore there would be limited opportunities for concurrent reclamation. However, there would be concurrent reclamation in some areas when active use stops. The reclamation phase would include final shaping of waste rock dumps, sealing mine portals, mill demolition, power line and substation dismantling, tailings disposal area shaping and revegetation, water management reservoir reclamation, and road reclamation.

Cobalt is a strategic and industrial metal with a diverse range of critical and important uses. The largest single use is in super-alloys for air and land-based gas turbine engines. The fastest growing usage is in the battery industry for cell phones, pagers, portable computers and gasoline-electric hybrid power automobiles. Cobalt is used in computer hard disk drives, semiconductors, magnetic data storage and solar collectors. It is a component in the effort to reduce air pollution, as it is a catalyst for removing sulfur from oil to provide for clean burning fuels and has important medical uses as well.

The Salmon Forest Plan provides guidance for management activities within the potentially affected area through its goals, objectives, standards and guidelines, and management area direction. The proposal would occur within Management Area 5B. Management emphasis in this area is on producing long-term timber outputs through a moderate level of investment in regeneration and thinning. It recognizes the potential for high-value locatable mineral occurrence and probable development. It directs that exploration, location, leasing and development of energy and non-energy minerals resources be coordinated with other resources.

Under the United States Mining Laws of May 10, 1872, as amended (30 U.S.C. 22), United States citizens and corporations have the right to search for and develop minerals upon public lands, including National Forest Systems lands, open to mineral entry. Forest Service regulations (36 FR 228, Subpart A) require that the agency work with mineral operators to minimize or eliminate adverse environmental impacts from mineral activities on National Forest System lands.

The FS decision to be made in response to Formation's Plan is described by regulation at 36 CFR 228.5 and includes: (a) Approve the project as proposed, (b) Notify the operator of changes or additions to the plan of operations deemed necessary to meet the purpose of the regulations.

These regulations also direct the FS to comply with the requirements of the National Environmental Policy Act (NEPA) in connection with each Plan of Operation. In this regard, the Salmon-Challis Forest Supervisor has determined that an EIS is required to support a decision on the Idaho Cobalt Project. The EIS will analyze the direct, indirect, and cumulative environmental effects of the proposed Plan of Operation and other reasonable alternatives including mitigation, monitoring and reclamation measures designed to minimize adverse effects.

Public participation is an important part of the analysis process (40 CFR 1501.7). Scoping activities to date have included a May 3, 2001 meeting at the forest headquarters in Salmon, Idaho, between representatives of the Salmon-Challis National Forest, Formation, and state and federal regulatory agencies in recognition of the Idaho Joint Review Process (JRP).

A public scoping meeting was conducted on July 20th in Salmon, Idaho. Notices of the meeting were placed in the paper of Record for Salmon and Challis, the Recorder Herald and Challis Messenger. Comments from the public and other agencies will be used to prepare the Draft EIS. A public scoping meeting is also scheduled for October 11th in Salmon, Idaho. Meeting times and place will be placed in the papers of Record for the Salmon and Challis, the Recorder Herald and Challis Messenger. The public is encouraged to visit with Forest Service officials at any time during the analysis and prior to the decision.

The scoping process to date has identified the following primary issues:

1. What is the potential for development of acid mine drainage and mobilization of heavy metals from geologic materials exposed by the proposed mining activities.

2. How would proposed mine facilities and activities prevent, control or treat ARD? What are the long-term maintenance requirements of these facilities along with their predicted long-term viability and stability?

3. What is the potential for adverse impacts to water quality downstream of project facilities from the proposed mining activities, including accidental spills of hazardous materials along the transportation route, and how would water quality be maintained and beneficial uses protected?

4. Would special status fish species and their habitat (threatened, endangered, sensitive) or species whose populations or habitat are present be adversely affected by the proposed mining activities?

5. What is the relationship between this project and the current program to remediate the environmental damage at the Blackbird Mine and to re-establish an anadromous fishery in Panther Creek?

6. Would surface water and groundwater quality monitoring be adequate to detect and allow for the correction of any water quality problems resulting from the proposed mining activities?

7. What is the relationship of the aquifer systems between the proposed project and surrounding areas, particularly the Blackbird Mine and receiving streams? What is the existing quality of groundwater in the project area and how would the project affect existing groundwater quality?

8. In recognition of the Clear Creek wildfire of the summer of 2000, what are the potential effects on water quality from accelerated erosion and sedimentation, in consideration of surface disturbance associated with the proposed mining operations?

9. Initial agency review identified specific issues regarding opportunities to reduce the number of waste rock facilities, consolidation of potentially acid generating material into separate locations, and lining of the tailings and water management reservoir.

10. The water balance and geochemical aspect of the operation will receive a critical review and will include consideration of the option for land application for water management purposes.

11. Opportunities exist to place a transportation system on the project site, which meets Forest guidelines, and to reclaim existing access not meeting standards.

This list may be verified, expanded, or modified based on additional scoping for this proposal.

In order to implement the project, the proponent, Formation, must obtain approval or conduct consultation with several other federal, state, and local regulatory agencies. These agencies include: U.S. Fish and Wildlife Service, National Marine Fisheries Service, Environmental Protection Agency, Army Corps of Engineers, Idaho Department of Environmental Quality, Idaho Department of Water Resources, Idaho State Historic Preservation Officer and Lemhi County, Idaho.

The Salmon-Challis National Forest is the lead agency in the preparation of this EIS. The Idaho Department of Environmental Quality is a cooperating agency. (Other state or federal agencies may be identified as cooperating agencies as a result of the scoping process).

The Draft EIS is expected to be filed with the Environmental Protection Agency (EPA) and available for public review in February 2002. At that time, the EPA will publish a Notice of Availability of the Draft EIS in the Federal Register. The comment period on the Draft EIS will be 45 days from the date the EPA's notice of availability appears in the Federal Register. It is very important that those interested in this proposal participate at that time. To be most helpful, comments on the Draft EIS should be as specific as possible. The Final EIS is anticipated to be completed by July 2002.

The Forest Service believes, at this stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage, but that are not raised until after completion of the final environmental impact statement, may be waived or dismissed by the courts. City of Angoon v. Hodel, 803 F.2d 1016, 1022 (9th Cir. 1986) and Wisconsin Heritages, ind. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments should be as specific as possible. Reviewers may wish to refer to the Council on Environmental Quality Regulations for implementing the procedural provisions of the National Environmental Policy Act at 40 CFR 1503.3 in addressing these points.

I am the responsible official for this Environmental Impact Statement. My address is Salmon-Challis National Forest, 50 Hwy 93 South, Calmon, Idaho 83467.

Dated: September 4, 2001.
George Matejko,
Forest Supervisor, Salmon-Challis National Forest.

[FR Doc. 01-22597 Filed 9-7-01; 8:45 am]

BILLING CODE 3410-11-M